DEPARTMENT OF HEALTH AND HUMAN SERVICES

Centers for Disease Control and Prevention

Advisory Committee on Immunization Practices: Meeting

In accordance with section 10(a)(2) of the Federal Advisory Committee Act (Public Law 92-463), the Centers for Disease Control and Prevention (CDC) announces the following committee meeting:

Name: Advisory Committee on Immunization Practices (ACIP).

Times and Dates: 8:30 a.m.-5:30 p.m., February 20, 2002, 8 a.m.-3:45 p.m., February 21, 2002.

Place: Atlanta Marriott Century Center, 2000 Century Boulevard, NE., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be discussed: The agenda will include a discussion on the adult harmonized schedule; yellow fever vaccine; update on 2001-2002 influenza season; update on 2001-2002 influenza vaccine supply; update on pediatric influenza vaccination feasibility study; economics of vaccinating children for influenza; 2002 options for recommending influenza vaccine for children; 2002 Recommendations for Control and Prevention of Influenza; update on supplemental recommendations for use of anthrax vaccine; update on anthrax events and response; vaccinia (smallpox) vaccine safety; smallpox containment strategies; use of smallpox vaccine in the pre-attack setting; role of jet injectors in the event of a smallpox emergency; update on supply of smallpox vaccine and vaccinia immune globulin; updates from the National Immunization Program, Food and Drug Administration, Vaccine Injury Compensation Program, National Institutes of Health, National Vaccine Program, and National Center for Infectious Diseases; a discussion on rotavirus vaccine and intussusception; process of formulating the childhood harmonized immunization schedule; update on vaccine supply; and update on thimerosal.

Agenda items are subject to change as priorities dictate.

Contact Person for More Information: Gloria A. Kovach, Program Analyst, Epidemiology and Surveillance Division, National Immunization Program, CDC, 1600 Clifton Road, NE, m/s E61, Atlanta, Georgia 30333. Telephone 404/639-8096.

The Director, Management Analysis and Services Office, has been delegated the authority to sign Federal Register notices pertaining to announcements of meetings and other committee management activities for both the Centers for Disease Control and Prevention and the Agency for Toxic Substances and Disease Registry.

Dated: January 17, 2002.
Alvin Hall,
Acting Director, Management Analysis and Services Office, Centers for Disease Control and Prevention.

[FR Doc. 02-1845 Filed 1-24-02; 8:45 am]

BILLING CODE 4163-18-P